DEPARTMENT OF THE INTERIOR

Bureau of Land Management

[AZA 33447]

Public Land Order No. 7730; Withdrawal of National Forest System Land for the Red Rock Ranger District Administrative Site; Arizona

AGENCY: Bureau of Land Management, Interior.

ACTION: Public Land Order.

SUMMARY: This order withdraws 62.08 acres of National Forest System land from location and entry under the United States mining laws for 20 years to protect the Forest Service Red Rock Ranger District Administrative Site within the Coconino National Forest.

DATES: Effective Date: February 9, 2009.

FOR FURTHER INFORMATION CONTACT: Angela Mogel, BLM Arizona State Office, One North Central Avenue, Suite 800, Phoenix, Arizona 85004-4427, 602-417-9536.

Order

By virtue of the authority vested in the Secretary of the Interior by Section 204 of the Federal Land Policy and Management Act of 1976, 43 U.S.C. 1714 (2000), it is ordered as follows:

1. Subject to valid existing rights, the following described National Forest System land is hereby withdrawn from location and entry under the United States mining laws, 30 U.S.C. Ch. 2 (2000), to protect the Red Rock Ranger District Administrative Site:

Coconino National Forest

Gila and Salt River Meridian

T. 16 N., R. 5 E.,

Sec. 25, S½SE¼NE¼NE¼ and E¼SE¼NE¼.

T. 16 N., R. 6 E.,

Sec. 30, lot 2.

The area described contains 62.08 acres in Yavapai County.

2. This withdrawal will expire 20 years from the effective date of this order unless, as a result of a review conducted before the expiration date pursuant to Section 204(f) of the Federal Land Policy and Management Act of 1976, 43 U.S.C. 1714(f) (2000), the Secretary determines that the withdrawal shall be extended.

Dated: January 9, 2009.
C. Stephen Allred,
Assistant Secretary—Land and Minerals Management.

[FR Doc. E9-2632 Filed 2-6-09; 8:45 am]

BILLING CODE 3410-11-P